DEPARTMENT OF ENERGY

Federal Energy Regulatory Commission

[Docket Nos. CP19-495-000; PF18-6-000]

Double E Pipeline, LLC; Notice of Application

Take notice that on July 31, 2019, Double E Pipeline, LLC (Double E), 1790 Hughes Landing Blvd., Suite 500, The Woodlands, Texas 77380, filed in Docket No. CP19-495-000 an application, pursuant to section 7(c) of the Natural Gas Act (NGA) and Parts 157 and 284 of the Commission's regulations, requesting a certificate of public convenience and necessity to construct, operate and maintain its Double E Pipeline Project. Specifically, Double E seeks authorization to construct and operate: (i) An approximately 116.6-mile, 30-inch and 42-inch diameter trunk-line natural gas pipeline; (ii) an approximately 16.3-mile, 30-inch diameter lateral; and (iii) meters, mainline block valves, launchers and receivers, and other minor facilities at aboveground sites. The project will interconnect with Kinder Morgan's planned Gulf Coast Express and Permian Highway Pipelines, and Energy Transfer Partners' Trans Pecos Pipeline. The Double E Pipeline Project is designed to provide up to 135,000 dekatherms per day of firm capacity to connect growing production areas in the Delaware Basin in southeast New Mexico and west Texas to delivery points near Waha in Reeves and Pecos Counties, Texas.

Double E further requests (i) a blanket certificate under Part 284 of the Commission's regulations authorizing Double E to provide open-access transportation services, with pre-granted abandonment approval; (ii) a blanket certificate under Part 157 of the Commission's regulations to construct, operate, and abandon certain eligible facilities, and services related thereto; (iii) approval of its proposed initial recourse rates for transportation service and for its Tariff, which includes the authority to enter into negotiated rate agreements; (iv) such other authorizations or waivers as may be deemed necessary to allow for the construction to commence as proposed. Double E estimates the cost of the Double E Pipeline Project to be $592,516,297, all as more fully described in the application which is on file with the Commission and open to public inspection.

The filing is available for review at the Commission in the Public Reference Room or may be viewed on the Commission's website web at http://www.ferc.gov using the eLibrary link. Enter the docket number excluding the last three digits in the docket number field to access the document. For assistance, contact FERC at FERCOnlineSupport@ferc.gov or call toll-free, (886) 208-3676 or TYY, (202) 502-8659.

Any questions concerning this application may be directed to: Cameron Bingham, Director, Project Management, Double E Pipeline, LLC, 1790 Hughes Landing Blvd., Suite 500, The Woodlands, Texas 77380; phone (970) 440-1004; email cbingham@summitmidstream.com.

On August 16, 2018, the Commission staff granted Double E's request to utilize the National Environmental Policy Act (NEPA) Pre-Filing Process and assigned Docket No. PF18-6-000 to staff activities involving the Double E Pipeline Project. Now, as of the filing of this application on July 31, 2019, the NEPA Pre-Filing Process for this project has ended. From this time forward, this proceeding will be conducted in Docket No. CP19-495-000, as noted in the caption of this Notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the eFiling link at http://www.ferc.gov. Persons unable to file electronically should submit an original and 3 copies of the protest or intervention to the Federal Energy regulatory Commission, 888 First Street NE, Washington, DC 20426.

Comment Date: 5:00 p.m. Eastern Time, September 4, 2019

Dated: August 14, 2019.
Kimberly D. Bose,
Secretary.

[FR Doc. 2019-17898 Filed 8-19-19; 8:45 am]

BILLING CODE 6717-01-P